DEPARTMENT OF ENERGY

Federal Energy Regulatory Commission

[Docket No. EL07-58-000]

Organization of PJM States, Inc.; District of Columbia Public Service Commission; Indiana Utility Regulatory Commission; Kentucky Public Service Commission; Maryland Public Service Commission, New Jersey Board of Public Utilities; North Carolina Utilities Commission; Pennsylvania Public Utility Commission; and the Virginia State Corporation Commission, Petitioners, v. PJM Interconnection, L.L.C., Respondent; Notice of Complaint

April 24, 2007.

Take notice that on April 23, 2007, the Organization of PJM States, Inc., the District of Columbia Public Service Commission; the Indiana Utility Regulatory Commission; the Kentucky Public Service Commission; the Maryland Public Service Commission; the New Jersey Board of Public Utilities; the North Carolina Utilities Commission; the Pennsylvania Public Utility Commission; and the Virginia State Corporation Commission (collectively, Complainants) hereby submit a complaint against PJM Interconnection, L.L.C. (PJM), alleging apparent violations of Attachment M of the PJM Open Access Transmission Tariff with regard to the independence and operation of the PJM Market Monitor and Market Monitoring Unit.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 3, 2007.

Kimberly D. Bose,
Secretary.

[FR Doc. E7-8210 Filed 4-30-07; 8:45 am]

BILLING CODE 6717-01-P